DEPARTMENT OF HOMELAND SECURITY

Transportation Security Administration

[Docket No. TSA-2005-21866]

Extension of Agency Information Collection Activity Under OMB Review: Enhanced Security Procedures at Ronald Reagan Washington National Airport

AGENCY: Transportation Security Administration, Department of Homeland Security.

ACTION: 30-Day notice.

SUMMARY: This notice announces that the Transportation Security Administration (TSA) has forwarded the Information Collection Request (ICR), Office of Management and Budget (OMB) control number 1652-0035, abstracted below to OMB for review and approval of an extension of the currently approved collection under the Paperwork Reduction Act (PRA). The ICR describes the nature of the information collection and its expected burden. The collection requires General Aviation (GA) aircraft operators to designate a security coordinator and adopt a DCA Access Standard Security Program (DASSP). The collection also involves obtaining information for Armed Security Officers (ASOs).

DATES: Send your comments by May 23, 2025. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on November 25, 2024, 89 FR 92960. TSA received no comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Enhanced Security Procedures at Ronald Reagan Washington National Airport.

Type of Request: Extension of a currently approved collection.

OMB Control Number: 1652-0035.

Forms(s): DCA Access Standard Security Program (DASSP) Aircraft Operator Application Form.

Affected Public: GA aircraft operators and passengers, ASOs, flight crewmembers, fixed base operators, and gateway airport operators.

Abstract: TSA is requesting an extension of this information collection. In accordance with 49 CFR part 1562, subpart B, TSA requires GA aircraft operators who wish to fly into or out of DCA to designate a security coordinator and adopt the DASSP. Once aircraft operators have complied with the DASSP requirements, they must request a slot reservation from the Federal Aviation Administration (FAA) and request authorization from TSA for each flight into and out of DCA. This information collection is approved under OMB control number 1652-0033, TSA Airspace Waiver Applications.

As part of the DASSP requirements, individuals designated as security coordinators, ASOs, and flight crewmembers assigned to duty on a GA aircraft flying into and out of DCA must submit fingerprints for a Criminal History Records Check (CHRC). In addition, GA aircraft operators must also maintain CHRC records of all employees and authorized representatives for whom a CHRC has been completed.

Under the Armed Security Officer Program, DASSP approved entities can nominate candidates through an online nomination form. Once approved by TSA to participate, the candidates are vetted for suitability for the program by providing various application materials. A law enforcement employment verification check is then completed. In addition, they are required to submit their fingerprints so that a CHRC can be conducted. Upon successful completion of the application process, a final determination of eligibility is adjudicated. All qualified applicants must then successfully complete a TSA-approved training course.

Estimated Number of Respondents: 162.

Estimated Annual Burden Hours: 176.

Dated: April 18, 2025.
Christina A. Walsh,
TSA Paperwork Reduction Act Officer, Information Technology, Transportation Security Administration.

[FR Doc. 2025-07025 Filed 4-22-25; 8:45 am]

BILLING CODE 9110-05-P